DEPARTMENT OF TRANSPORTATION

Federal Aviation Administration

[Docket No. FAA-2019-0946]

Agency Information Collection Activities: Requests for Comments; Clearance of Renewed Approval of Information Collection: Pilot Records Improvement Act of 1996/Pilot Record Database

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on December 26, 2019. This collection involves the pilot/applicant's name, home address which is provided by the applicant, and his/her FAA certificate number. In most cases, the certificate number is one that has been assigned by Airmen Certification. The information collected is imperative to be able to identify the airman in order to process the required background check for the potential hiring air carrier employer.

DATES: Written comments should be submitted by April 1, 2020.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW, Washington, DC 20503.

FOR FURTHER INFORMATION CONTACT: Christopher Morris by email at christopher.morris@faa.gov or by calling 405-954-4646.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0607.

Title: Pilot Records Improvement Act of 1996/Pilot Record Database.

Form Numbers:

FAA 8060-10 FAA RECORDS REQUEST (PRIA)

FAA 8060-10 AIRMAN NOTICE AND RIGHT TO RECEIVE COPY—FAA RECORDS (PRIA)

FAA 8060-11 AIR CARRIER AND OTHER RECORDS REQUEST (PRIA)

FAA 8060-11A AIRMAN NOTICE AND RIGHT TO RECEIVE COPY—AIR CARRIER AND OTHER RECORDS (PRIA)

FAA 8060-12 AUTHORIZATION FOR RELEASE OF DOT DRUG AND ALCOHOL TESTING RECORDS UNDER PRIA AND MAINTAINED UNDER TITLE 49 CODE OF FEDERAL REGULATIONS (49 CFR) PART 40

FAA 8060-13 NATIONAL DRIVER REGISTER RECORDS REQUEST (PRIA)

FAA FORM 8060-XX PILOT CONSENT/REVOCATION FOR AIR CARRIER ACCESS TO PILOT RECORDS DATABASE

Type of Review: Revision of an information collection.

Background: The Federal Register Notice with a 60-day comment period soliciting comments on the following collection of information was published on December 26, 2019 (2019-27707). This notice includes an updated burden analysis. The Pilot Records Improvement Act of 1996 (PRIA) as amended, was enacted to ensure that part 121, 125 and 135 air carriers and air operators adequately investigate a pilot's background before allowing that pilot to conduct commercial air carrier flights for their company. Under PRIA, a hiring employer cannot place a pilot into service until they obtain, review and approve the pilot's background and other safety-related records for the past 5 year period as specified in PRIA. The FAA information disclosed under PRIA are medical and airman certificate verifications as well as any closed enforcement and revocation data. The air carrier information disclosed under PRIA are those concerning pilot performance and training, disciplinary actions and removal from service, and drug and alcohol testing records. Records from the Department of Motor Vehicles of any particular State would include records of drug and alcohol convictions. PRIA request forms can be received by fax or mail; however, the most common method is by email attachment, one pilot/applicant per form. Each 8060-10 form will include all information needed to process the requested PRIA report. FAA Form 8060-xx is being added to this collection to allow pilots to release their FAA records to a hiring aviation employer when they cannot release the records themselves via the PRD website. Use of FAA Form 8060-xx is not required if FAA Form 8060-10 is used or if the pilot releases the records themselves via the PRD website. The specific form number is not yet determined. In addition to the forms, information is collected via a website to allow interested persons to register in MyAccess. MyAccess is a user-management and identity verification service used to control who has access to the PRD.

Respondents: The PRIA representative at each part 121, 125 and 135 air carrier is responsible for completing, forwarding, receiving and providing the air carrier with the completed PRIA report so the air carrier can make a more informed hiring decision concerning each pilot/applicant. One complete PRIA package is required for every pilot/applicant. The FAA processes approximately 24,120 PRIA packages per year from respondents.

Frequency: On occasion.

Estimated Average Burden per Response: 2.13 hours.

Estimated Total Annual Burden: 96,871 hours.

Issued in Oklahoma City, OK, on February 25, 2020.
Christopher Morris,
PRD/PRIA Program Manager, Regulatory Support Division, Flight Standards Service, Office of Aviation Safety AFS-620.

[FR Doc. 2020-04172 Filed 2-28-20; 8:45 am]

BILLING CODE 4910-13-P